DEPARTMENT OF TRANSPORTATION

National Highway Traffic Safety Administration

[Docket No. DOT-NHTSA-2012-0033]

Request for Comments on a Renewal Information Collection

AGENCY: National Highway Traffic Safety Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on March 28, 2012 (FR 77 18880). No comments were received.

DATES: Comments must be submitted on or before September 24, 2012.

FOR FURTHER INFORMATION CONTACT: Sean McLaurin, NVS-422, National Highway Traffic Safety Administration, Room W55-336, Department of Transportation, 1200 New Jersey Avenue SE., Washington, DC 20590. Mr. McLaurin's telephone number is (202) 366-4800. Please identify the relevant collection of information by referring to its OMB Control Number.

SUPPLEMENTARY INFORMATION:

Title: National Driver Register (NDR).

OMB Control Number: 2127-0001.

Type of Request: Extension of Clearance.

Abstract: The purpose of the NDR is to assist States and other authorized users in obtaining information about problem drivers. State motor vehicle agencies submit and use the information for driver licensing purposes. Other users obtain the information for transportation safety purposes.

Affected Public: State, Local, or Tribal Government.

Estimated Number of Respondents: The number of respondents is 51—the fifty States and the District of Columbia.

Estimated Total Annual Burden Hours: 2,847.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. chapter 35, as amended; and 49 CFR 1.48.

Issued in Washington, DC, on July 25, 2012.
Chou-Lin Chen,
Office Director, Office of Traffic Records and Analysis.

[FR Doc. 2012-20750 Filed 8-22-12; 8:45 am]

BILLING CODE 4910-59-P